DEPARTMENT OF HEALTH AND HUMAN SERVICES

National Institutes of Health

Center for Scientific Review; Amended Notice of Meeting

Notice is hereby given of a change in the meeting of the Center for Scientific Review Special Emphasis Panel, October 24, 2013, 2:00 p.m. to 5:00 p.m., National Institutes of Health, 6701 Rockledge Drive, Bethesda, MD 20892 which was published in the Federal Register on October 01, 2013, 78 FR Pgs. 60296-60297.

The meeting will be held on October 29, 2013 at 2:00 p.m. to 5:00 p.m. The meeting location remains the same. The meeting is closed to the public.

Dated: October 23, 2013.
David Clary,
Program Analyst, Office of Federal Advisory Committee Policy.

[FR Doc. 2013-25482 Filed 10-28-13; 8:45 am]

BILLING CODE 4140-01-P